DEPARTMENT OF TRANSPORTATION

Federal Aviation Administration

Aviation Rulemaking Advisory Committee; Transport Airplane and Engine Issues

AGENCY: Federal Aviation Administration (FAA), DOT.

ACTION: Notice; withdrawal of task from the Aviation Rulemaking Advisory Committee (ARAC).

SUMMARY: This notice withdraws a task formerly assigned to the ARAC, Transport Airplane and Engine Issues.

FOR FURTHER INFORMATION CONTACT: Mike Kaszycki, Transport Standards Staff, 1601 Lind Avenue, SW., Renton, WA 98055, (227) 425-2137, mike.kaszycki@faa.gov.

SUPPLEMENTARY INFORMATION:

Background

On March 22, 2001, the Federal Aviation Administration (FAA) published a task in the Federal Register instructing the Aviation Rulemaking Advisory Committee (ARAC) to develop recommendations for preventing fires related to fuel tank vent systems (66FR16087). The FAA requested that ARAC:

Phase I. Review the draft part 25 final rule concerning fuel-vent system fire protection, including the FAA's proposed disposition of public comments. Prepare a report for the FAA documenting any recommended changes resulting from this review and any remaining unresolved issues.

Phase II. Review the draft advisory material (AC 25.975) associated with the part 25 rule and prepare a report for the FAA similar to the phase I report, documenting any recommended changes as well as any remaining unresolved issues.

The ARAC assigned the task to the Powerplant Installation Harmonization Working Group (PPIHWG). The schedule for Phase I called for the working group to submit their report no later than 60 days after receiving the draft document from the FAA. The schedule for Phase II called for the working group to submit their report no later than 6 months after receiving the draft document from the FAA.

Withdrawal of the Task

As a result of industry resource issues and FAA rulemaking prioritization activities, no work was done on this tasking. The PPIHWG chair reported that the necessary industry specialists were focused on other fuel tank safety initiatives and not available to begin work on this tasking. At the same time, industry was expressing a general concern about ARAC's impact on its resources. It challenged the FAA and Joint Aviation Authorities through the Harmonization Management Team (HMT) to develop a prioritized rulemaking plan that incorporates resource commitments that are more consistent with the regulatory authorities' rulemaking capabilities.

Subsequently, we reviewed our regulatory program, focusing on prioritizing rulemaking initiatives to more efficiently and effectively use limited industry and regulatory resources. We also issued a letter to the ARAC, Transport Airplanes and Engine (TAE) issues, placing a moratorium on low priority ARAC harmonization working group activities, one of which was this tasking to the PPIHWG. Our review yielded an internal Regulation and Certification Rulemaking Priority List that will guide the agency's rulemaking activities, including the tasking of initiatives to the ARAC. Our review also identified several taskings that we can withdraw and rulemaking initiatives that we can handle by alternative means.

One of the tasks identified for withdrawal was the two-phase tasking to the ARAC, TAE issues area to develop recommendations for preventing fires related to fuel tank vent systems. The FAA coordinated its decision with both the Joint Aviation Authorities (now the European Aviation Safety Agency) and Transport Canada Civil Aviation.

So, through this notice, we are withdrawing from ARAC the two-phase tasking to develop recommendations for preventing fires related to fuel tank vent systems.

Issued in Washington DC on June 15, 2004.
Tony F. Fazio,
Executive Director, Aviation Rulemaking Advisory Committee.

[FR Doc. 04-13982 Filed 6-18-04; 8:45 am]

BILLING CODE 4910-13-P